DEPARTMENT OF COMMERCE

International Trade Administration

[C-533-886]

Polyester Textured Yarn From India: Amended Preliminary Determination of Countervailing Duty Determination

AGENCY: Enforcement and Compliance, International Trade Administration, Department of Commerce.

SUMMARY: The Department of Commerce (Commerce) is amending the preliminary determination in the countervailing duty investigation of polyester textured yarn from India to correct a significant ministerial error.

DATES: Applicable June 12, 2019.

FOR FURTHER INFORMATION CONTACT: Janae Martin or Jesus Saenz, AD/CVD Operations, Office VIII, Enforcement and Compliance, International Trade Administration, U.S. Department of Commerce, 1401 Constitution Avenue NW, Washington, DC, 20230; telephone: (202) 482-0238 or (202) 482-8184, respectively.

SUPPLEMENTARY INFORMATION:

Background

On May 3, 2019, Commerce published in the Federal Register the Preliminary Determination,¹ and completed the disclosure of all calculation materials to interested parties. From May 6 through May 13, 2019, the petitioners,² JBF Industries Limited (JBF), and Sanathan Textile Private Limited, India (Sanathan) timely filed ministerial error allegations regarding the Preliminary Determination.³

¹ See Polyester Textured Yarn from India: Preliminary Affirmative Countervailing Duty Determination, and Alignment of Final Determination With Final Antidumping Duty Determination, 84 FR 19036 (May 3, 2019) (Preliminary Determination) and accompanying Preliminary Decision Memorandum.

² The petitioners in this investigation are Unifi Manufacturing, Inc. and Nan Ya Plastics Corporation, America.

³ See Petitioners' letter, “Countervailing Duty Investigation of Polyester Textured Yarn from India—Petitioners' Ministerial Error Allegation Concerning the Preliminary Subsidy Calculation for JBF Industries,” dated May 6, 2019 (Petitioners' Clerical Error Comments); JBF's letter, “CVD Investigation of Polyester Textured Yarn from India: Comments on Significant Ministerial Errors Found in Preliminary Determination Calculation for JBF,” dated May 6, 2019 (JBF's Clerical Error Comments); Petitioners' letter, “Countervailing Duty Investigation of Polyester Textured Yarn from India: Petitioners' Ministerial Error Allegation Concerning the Department's Preliminary All-Others Rate Calculation,” dated May 7, 2019 (Petitioners' All-Others Rate Clerical Error Comments); Sanathan's letter, “Certain Polyester Textured Yarn from India (C-533-886): Ministerial Error Allegation Concerning the Preliminary Subsidy Rate Calculation for All Others,” dated May 7, 2019 (Sanathan's Clerical Error Comments). On May 13, 2019, Sanathan also submitted rebuttal comments, however, pursuant to 19 CFR 351.224(c)(3), Commerce will not consider replies to comments in connection with a preliminary determination.

Period of Investigation

The period of investigation (POI) is April 1, 2017 through March 31, 2018.

Scope of Investigation

The product covered by this investigation is polyester textured yarn from India. For a complete description of the scope of this investigation, see the Appendix to this notice.

Analysis of Significant Ministerial Error Allegations

Commerce will analyze any comments received and, if appropriate, correct any significant ministerial error by amending the preliminary determination according to 19 CFR 351.224(e). A ministerial error is defined in 19 CFR 351.224(f) as “an error in addition, subtraction, or other arithmetic function, clerical error resulting from inaccurate copying, duplication, or the like, and any other similar type of unintentional error which the Secretary considers ministerial.” ⁴ A significant ministerial error is defined as a ministerial error, the correction of which, singly or in combination with other errors, would result in: (1) A change of at least five absolute percentage points in, but not less than 25 percent of, the countervailing duty rate calculated in the original preliminary determination; or (2) a difference between a countervailing duty rate of zero (or de minimis) and a countervailing duty rate greater than de minimis, or vice versa.⁵

⁴ See section 735(e) of the Tariff Act of 1930, as amended (the Act).

⁵ See 19 CFR 351.224(g).

Amended Preliminary Determination

Pursuant to 19 CFR 351.224(e) and (g)(1), Commerce is amending the Preliminary Determination to reflect the correction of a ministerial error made in the calculation of the estimated weighted-average all-others countervailable subsidy rate. This error is a significant ministerial error within the meaning of 19 CFR 351.224(g) because the all-other's rate decreases from 13.82 percent to 7.24 percent as a result of correcting this ministerial error, exceeding the specified threshold, i.e., a change of at least five absolute percentage points in, but not less than 25 percent of, the countervailable subsidy rate calculated in the original Preliminary Determination.⁶

⁶ See Memorandum, “Countervailing Duty Investigation of Polyester Textured Yarn from India: Allegations of Significant Ministerial Errors in the Preliminary Determination,” dated concurrently with this notice.

Amended Cash Deposits and Suspension of Liquidation

The collection of cash deposits and suspension of liquidation will be revised according to the rates calculated in this amended preliminary determination. Because these amended rates result in decreased cash deposits, the amended rate for the all-others rate will be effective retroactively to May 3, 2019, the date of publication of the Preliminary Determination. Parties will be notified of this determination, in accordance with section 733(d) and (f) of the Act.

Amended Preliminary Determination

Exporter/producer | Weighted-average margin
All-Others | 7.24

Disclosure

We intend to disclose the calculations performed to parties in this proceeding within five days after publication of the notice of amended preliminary determination in the Federal Register in accordance with 19 CFR 351.224(b).

International Trade Commission Notification

In accordance with section 733(f) of the Act, we notified the International Trade Commission of our amended preliminary determination.

This amended preliminary determination is issued and published in accordance with sections 733(f) and 777(i)(1) of the Act and 19 CFR 351.224(e).

Dated: June 6, 2019.
Jeffrey I. Kessler,
Assistant Secretary for Enforcement and Compliance.

Appendix I—Scope of the Investigation

The merchandise covered by this investigation, polyester textured yarn, is synthetic multifilament yarn that is manufactured from polyester (polyethylene terephthalate). Polyester textured yarn is produced through a texturing process, which imparts special properties to the filaments of the yarn, including stretch, bulk, strength, moisture absorption, insulation, and the appearance of a natural fiber. This scope includes all forms of polyester textured yarn, regardless of surface texture or appearance, yarn density and thickness (as measured in denier), number of filaments, number of plies, finish (luster), cross section, color, dye method, texturing method, or packing method (such as spindles, tubes, or beams).

Excluded from the scope of this investigation is bulk continuous filament yarn that: (a) Is polyester synthetic multifilament yarn; (b) has denier size ranges of 900 and above; (c) has turns per meter of 40 and above; and (d) has a maximum shrinkage of 2.5 percent.

The merchandise subject to this investigation is properly classified under subheadings 5402.33.3000 and 5402.33.6000 of the Harmonized Tariff Schedule of the United States (HTSUS). Although the HTSUS subheadings are provided for convenience and customs purposes, the written description of the scope of the investigation is dispositive.

[FR Doc. 2019-12404 Filed 6-11-19; 8:45 am]

BILLING CODE 3510-DS-P